DEPARTMENT OF COMMERCE

International Trade Administration

[A-489-501]

Welded Carbon Steel Standard Pipe and Tube Products From Turkey: Partial Rescission of Antidumping Duty Administrative Review; 2013-2014

AGENCY: Enforcement and Compliance, International Trade Administration, Department of Commerce.

SUMMARY: The Department of Commerce (the Department) is partially rescinding the administrative review of the antidumping duty order on welded carbon steel standard pipe and tube products from Turkey covering the period of review (POR) May 1, 2013, through April 30, 2014.

DATES: Effective Date: August 21, 2014.

FOR FURTHER INFORMATION CONTACT: Steve Bezirganian, AD/CVD Operations, Office VI, Enforcement and Compliance, International Trade Administration, U.S. Department of Commerce, 14th Street and Constitution Avenue NW., Washington, DC 20230; telephone: (202) 482-1131.

Background

On May 1, 2014, the Department published in the Federal Register a notice of opportunity to request an administrative review of the antidumping duty order on welded carbon steel standard pipe and tube products from Turkey for the POR.¹ On June 27, 2014, the Department published in the Federal Register a notice of initiation of an administrative review of the antidumping duty order on welded carbon steel standard pipe and tube products from Turkey covering the POR.² The review covers six companies: Borusan Group; Borusan Istikbal Ticaret T.A.S.; Borusan Mannesmann Boru Sanayi ve Ticaret A.S.; ERBOSAN Erciyas Boru Sanayi ve Ticaret A.S.; Tosyali Dis Ticaret A.S.; and Toscelik Profil ve Sac Endustrisi.³ Wheatland Tube Company (Petitioner) requested a review of all six companies.⁴ Borusan Istikbal Ticaret T.A.S. and Borusan Mannesmann Boru Sanayi ve Ticaret A.S. requested a review of themselves.⁵

¹ See Antidumping or Countervailing Duty Order, Finding, or Suspended Investigation; Opportunity To Request Administrative Review, 79 FR 24670, 24671 (May 1, 2014).

² See Initiation of Antidumping and Countervailing Duty Administrative Reviews, 79 FR 36462, 36467 (June 27, 2014).

³ Id.

⁴ See the June 2, 2014, letter from Petitioner to the Secretary of Commerce entitled “Circular Welded Carbon Steel Pipes And Tubes From Turkey: Request For Administrative Review—Spelling Correction for Toscelik Profil ve. Sac Endustrisi A.S.”

⁵ See the June 2, 2014, letter from those companies to the Secretary of Commerce entitled “Circular Welded Carbon Steel Pipes and Tubes from Turkey, Case No. A-489-501: Request for Antidumping Duty Administrative Review.”

On July 18, 2014, Petitioner withdrew its request for an administrative review of Borusan Group.⁶

⁶ See the July 18, 2014, letter from Petitioner to the Secretary of Commerce entitled “Circular Welded Carbon Steel Pipes And Tubes From Turkey: Partial Withdrawal of Request for Administrative Review.”

Partial Rescission of Review

Pursuant to 19 CFR 351.213(d)(1), the Department will rescind an administrative review, in whole or in part, if the party that requested a review withdraws the request within 90 days of the date of publication of notice of initiation of the requested review. Petitioner withdrew its review request with respect to Borusan Group within the 90-day deadline and, therefore, the withdrawal request is timely. Accordingly, in accordance with 19 CFR 351.213(d)(1), we are rescinding this review with respect to Borusan Group. However, because the relevant parties have not withdrawn their requests for review of the other companies for which a review has been initiated, the instant review will continue with respect to those companies.

Assessment

The Department will instruct U.S. Customs and Border Protection (CBP) to assess antidumping duties on all appropriate entries. For Borusan Group, antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility under 19 CFR 351.402(f)(2) to file a certificate regarding the reimbursement of antidumping duties prior to liquidation of the relevant entries during this review period. Failure to comply with this requirement may result in the presumption that reimbursement of the antidumping duties occurred and the subsequent assessment of double antidumping duties.

Notification Regarding Administrative Protective Order

This notice also serves as the only reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a violation which is subject to sanction.

Notification to Interested Parties

This notice is issued and published in accordance with sections 751 and 777(i)(1) of the Tariff Act of 1930, as amended, and 19 CFR 351.213(d)(4).

Dated: August 13, 2014.
Christian Marsh,
Deputy Assistant Secretary for Antidumping and Countervailing Duty Operations.

[FR Doc. 2014-19875 Filed 8-20-14; 8:45 am]

BILLING CODE 3510-DS-P